DEPARTMENT OF COMMERCE

National Oceanic and Atmospheric Administration

RIN 0648-XA222

Gulf Spill Restoration Planning; Notice of Intent To Begin Restoration Scoping and Prepare a Programmatic Environmental Impact Statement

AGENCY: National Marine Fisheries Service (NMFS), National Oceanic and Atmospheric Administration (NOAA), U.S. Department of Commerce.

ACTION: Notice of intent to begin restoration scoping and prepare a Programmatic Environmental Impact Statement (PEIS).

SUMMARY: The purpose of the Gulf Spill Restoration Planning PEIS is to identify restoration types and establish a programmatic framework and procedures that will enable the Trustees to expedite the selection and implementation of restoration projects to compensate the public and the environment for loss of natural resources and services from the Deepwater Horizon Oil Spill that began on April 20, 2010, Mississippi Canyon Block 252 (“the Oil Spill”). The Trustees will prepare a PEIS that will evaluate a range of restoration types that could be used to compensate the public for the environmental and human use damages caused by the Oil Spill. The Trustees seek public involvement in the scoping process and development of the PEIS. This notice explains the scoping process the Trustees will use to gather input from the public. Comments on what the Trustees should consider in the PEIS may be submitted in written form or verbally at any of the public scoping meetings; or may be submitted in written or electronic form at any other time during the scoping process.

DATES: Public comments must be received by May 18, 2011. Preliminary public scoping meeting locations are being scheduled for:

• Pensacola, FL

• Belle Chasse, LA

• Grand Isle, LA

• Port Arthur, TX

• Galveston, TX

• Houma, LA

• Morgan City, LA

• Gulfport, MS

• Spanish Fort, AL

• Panama City, FL

• Washington, DC

The specific dates and times for each are to be determined and will be announced in the Federal Register, on the Web site, and in local newspapers no later than two weeks prior to each meeting.

ADDRESSES: Written scoping comments on suggested restoration types should be sent to NOAA Restoration Center, Attn: DWH PEIS Comments, 263 13th Avenue South, Suite 166, St. Petersburg, FL 33701. Electronic comments are strongly encouraged, and can also be submitted to http://www.gulfspillrestoration.noaa.gov. All written scoping comments must be received by the close of the scoping process to be considered during the scoping process. The exact dates and venues of scoping meetings, as well as the closing date for scoping comments, will be announced in a public notice to be released two weeks prior to the first public scoping meetings to be held pursuant to this notice.

FOR FURTHER INFORMATION CONTACT: NOAA—Brian Hostetter at 888.547.0174 or by e-mail at gulfspillcomments@noaa.gov;

DOI—Robin Renn by e-mail at Robin_Renn@fws.gov;

AL— Will Gunter by e-mail at William.Gunter@dcnr.alabama.gov;

FL—Lee Edminston or Gil McRae by e-mail at Lee.Edmiston@dep.state.fl.us or Gil.McRae@myfwc.com;

LA—Karolien Debusschere by e-mail at karolien.debusschere@la.gov;

MS—Richard Harrell by e-mail at Richard_Harrell@deq.state.ms.us;

TX—Don Pitts by e-mail at Don.Pitts@tpwd.state.tx.us.

To be added to the Oil Spill PEIS mailing list, please visit: http://www.gulfspillrestoration.noaa.gov.

SUPPLEMENTARY INFORMATION: National Marine Fisheries Service (NMFS), National Oceanic and Atmospheric Administration (NOAA), U.S. Department of Commerce is the lead agency for the preparation of the PEIS on behalf of United States Department of the Interior (on behalf of the Fish and Wildlife Service, the National Park Service, the Bureau of Land Management and the Bureau of Indian Affairs) (“DOI”); the Louisiana Coastal Protection and Restoration Authority, the Louisiana Oil Spill Coordinator's Office, the Louisiana Department of Environmental Quality, the Louisiana Department of Wildlife and Fisheries, and the Louisiana Department of Natural Resources, for the State of Louisiana; the Mississippi Department of Environmental Quality, for the State of Mississippi; the Alabama Department of Conservation and Natural Resources and the Geological Survey of Alabama, for the State of Alabama; the Florida Department of Environmental Protection and the Florida Fish and Wildlife Conservation Commission for the State of Florida; and the Texas Parks and Wildlife Department, Texas General Land Office, and the Texas Commission on Environmental Quality, for the State of Texas.

Under the Oil Pollution Act (OPA), 33 U.S.C. 2701 et seq. Responsible Parties incur liability for the costs of cleaning up the oil and for the restoration of injured natural resources and their services. Liability for natural resource injuries caused by the Oil Spill can also flow from the Park System Resource Protection Act (PSRPA) (16 U.S.C. 19jj), the National Marine Sanctuaries Act (16 U.S.C. 1431 et seq.), and other federal and state laws. The Trustee agencies, including NOAA, are leading efforts to assess and restore affected resources. These resources include ecologically, recreationally, and commercially important species and their habitats in the Gulf of Mexico and along the coastal areas of Louisiana, Mississippi, Alabama, Texas, and Florida, as well as human uses of these resources.

Natural Resource Damage Assessment (NRDA) is the process established under OPA to evaluate the impacts to natural resources and lost human uses of those resources. Information continues to be collected on pre-oiled and oiled areas to assess potential impacts to natural resources, including: fish, shellfish, marine mammals, turtles, birds, and other sensitive resources and their habitats, including; wetlands, beaches, mudflats, bottom sediments, corals, and the water column. Losses of commercial and recreational human uses such as fishing, hunting, boating, and beach enjoyment are also being assessed.

OPA authorizes certain federal and state agencies and Indian tribes to be designated as Trustees for affected natural resources. Under OPA, these agencies and tribes are authorized to assess natural resource injuries and to seek compensation from RPs, including the costs of performing the damage assessment. The Trustees are required to use recovered damages only to restore, replace or acquire the equivalent of injured or lost resources and the human use of those resources. Toward that end, the PEIS will identify types of restoration that could be used to compensate the public for lost resources and their services, as well as a framework and procedures for the selection and implementation of restoration projects that will compensate the public for the natural resource damages caused by the Oil Spill.

The National Environmental Policy Act (NEPA), 42 U.S.C. 4321 et seq., and the Council on Environmental Quality regulations implementing NEPA under 40 CFR Chapter V apply to restoration actions by federal trustees. The federal and state Trustees will be developing a PEIS to help guide restoration actions associated with the NRDA for the Oil Spill. The PEIS will assess the environmental, social, and economic attributes of the affected environment and the potential consequences of alternative actions to restore, rehabilitate, replace, or acquire the equivalent of natural resources and services potentially injured by the spill. A PEIS may be prepared to evaluate actions that encompass a large geographic scale. Tiered analyses considering particular restoration actions may be required in the future as specific plans for implementing particular alternatives are established.

The purpose of the scoping process is to identify the concerns of the affected public and federal agencies, states, and Indian tribes, involve the public early in the decision making process, facilitate an efficient PEIS preparation process, define the issues and alternatives that will be examined in detail, and save time by ensuring that draft documents adequately address relevant issues. The scoping process reduces paperwork and delay by ensuring that important issues are addressed early. Following the scoping process, the Trustees will prepare a draft PEIS, at which time the public will be encouraged to comment on the document. Similar to the scoping process, public comment meetings will be held at that time to gather oral and written public input on the draft PEIS.

In compliance with 15 CFR 990.45, the Trustees will prepare an Administrative Record (Record). The Record will include documents that the Trustees relied on during the development of the PEIS. After preparation, the Record will be on file at the NOAA Restoration Center in Silver Spring, MD, and duplicate copies will be maintained at the following Web site: http://www.darrp.noaa.gov/. The specific web page will be provided in the next public notice.

The draft PEIS document is intended to be released for public comment by Fall/Winter, 2011. Specific dates and times for future events will be publicized when scheduled.

Dated: February 11, 2011.
Patricia A. Montanio,
Director, Office of Habitat Conservation, National Marine Fisheries Service.

[FR Doc. 2011-3634 Filed 2-16-11; 8:45 am]

BILLING CODE 3510-22-P